DEPARTMENT OF COMMERCE

Census Bureau

Census Scientific Advisory Committee

AGENCY: Bureau of the Census, Department of Commerce.

ACTION: Notice of public meeting; postponed.

SUMMARY: The Bureau of the Census (Census Bureau) is giving notice that it is postponing a meeting of the Census Scientific Advisory Committee (CSAC). The meeting was scheduled for March 26 and March 27. The Census Bureau is postponing that meeting due to health concerns with the coronavirus. In a future Federal Register notice, we will announce a rescheduled date and time for the CSAC meeting. CSAC information can be found at the following website: https://www.census.gov/about/cac/sac.html.

FOR FURTHER INFORMATION CONTACT: Kimberly Leonard, External Stakeholder Program Manager, Office of Program, Performance and Stakeholder Integrations, by mail at Department of Commerce, U.S. Census Bureau, Room 2K137, 4600 Silver Hill Road, Washington, DC 20233 or by phone at 301-763-7281, or via email at: census.scientific.advisory.committee@census.gov. Individuals who use telecommunication devices for the deaf (TDD) may call the Federal Information Relay Service (FIRS) at 1-800-877-8339 between 8:00 a.m. and 8:00 p.m., Monday through Friday.

SUPPLEMENTARY INFORMATION: The Census Bureau is giving notice that it is postponing a meeting of the Census Scientific Advisory Committee (CSAC). The Census Bureau originally published in the Federal Register on Thursday, March 5, 2020 (85 FR 12891) a notice announcing that the CSAC would be meeting on Thursday, March 26, 2020, from 8:30 a.m. to 5:00 p.m. and on Friday, March 27, 2020, from 8:30 a.m. to 2:00 p.m. The Census Bureau is postponing that meeting. In a future Federal Register notice, we will announce a rescheduled date and time for the CSAC meeting.

The Committee addresses policy, research, and technical issues relating to a full range of Census Bureau programs and activities, including communications, decennial, demographic, economic, field operations, geographic, information technology, and statistics. Last minute changes to the schedule are possible, which could prevent giving advance public notice of schedule adjustments.

The members of the CSAC are appointed by the Director, Census Bureau. The Committee provides scientific and technical expertise, as appropriate, to address Census Bureau program needs and objectives. The Committee has been established in accordance with the Federal Advisory Committee Act (Title 5, United States Code, Appendix 2, Section 10).

Dated: March 11, 2020.
Ron S. Jarmin,
Deputy Director, Bureau of the Census.

[FR Doc. 2020-05465 Filed 3-16-20; 8:45 am]

BILLING CODE 3510-07-P